DEPARTMENT OF LABOR

Employment and Training Administration

[TA-W-41,043]

Champion Parts, Inc., Beech Creek, Pennsylvania; Notice of Negative Determination Regarding Application for Reconsideration

By application received on June 26, 2002, the International Brotherhood of Electrical Workers (IBEW), Local 1592 requested administrative reconsideration of the Department's negative determination regarding eligibility to apply for Trade Adjustment Assistance (TAA), applicable to workers and former workers of the subject firm. The denial notice applicable to workers of the subject firm was signed on May 23, 2002. The decision was published in the Federal Register on June 11, 2002 (67 FR 40004).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition filed on behalf of workers of Champion Parts, Inc., Beech Creek, Pennsylvania, producing fuel systems and CV products was denied because the “contributed importantly” group eligibility requirement of Section 222(3) of the Trade Act of 1974, as amended, was not met. The “contributed importantly” test is generally demonstrated through a survey of the worker firm's customers. None of the customers reported importing fuel systems and CV products during the relevant period. The subject firm did not import fuel systems or CV products during the relevant period.

The petitioner indicates that the TAA decision depicts “that increases of imports of the articles like or directly competitive with articles produced by the firm or appropriate subdivision have contributed importantly to the separation, or threat thereof, and to the absolute declines in sales or production.”

In the above instance, the petitioner appears to be referencing criterion (3) of the group eligibility requirement of Section 222 of the Act. In fact, the decision clearly states that subject firm workers do not meet the eligibility requirement of criterion (3) of Section 222 of the Act.

The petitioner also appears to be concerned that the Department may not have examined the correct products produced by the subject plant during the initial investigation.

A review of the customer survey conducted by the Department shows that none of the customers reported importing fuel systems and CV products (carburetors), during the relevant period. These products account for all production performed at the subject firm during the relevant period.

The petitioner also references plant production of carburetors that was produced during the mid-1990's and also indicates that this product was replaced by imported fuel injectors.

Products produced by the subject plant prior to the year 2000 are outside the scope of the relevant period. As indicated previously, customers reported no like or directly or competitive imports of products produced by the subject plant during the relevant period.

Finally, the petitioner contends that CV component production was not a part of the initial investigation.

A review of plant sales and production data pertaining to CV products (a relatively small portion of plant production) shows increases throughout the relevant period. Thus, import impact is not an issue in regard to this product.

Conclusion

After review of the application and investigative findings, I conclude that there has been no error or misinterpretation of the law or of the facts which would justify reconsideration of the Department of Labor's prior decisions. Accordingly, the application is denied.

Signed at Washington, DC this 25th day of July 2002.
Edward A. Tomchick,
Director, Division of Trade Adjustment Assistance.

[FR Doc. 02-19968 Filed 8-6-02; 8:45 am]

BILLING CODE 4510-30-P